DEPARTMENT OF JUSTICE

Notice of Proposed Consent Decree and Proposed Order on Consent Under the Clean Water Act

Notice is hereby given that, on May 18, 2010, a proposed Consent Decree in United States v. City of Kansas City, Missouri, Civil Action No. 4:10-cv-0497, was lodged with the United States District Court for the Western District of Missouri.

The proposed Consent Decree will settle the United States' claims on behalf of the U.S. Environmental Protection Agency (“EPA”) for violations of Sections 301(a) and 504(a) of the Clean Water Act, 33 U.S.C. 1311(a) & 1364(a), in connection with un-permitted discharges from the City's combined and separate sewer systems and failure to comply with various provisions of its National Pollutant Discharge Elimination System Permits. The State of Missouri is joined as a non-aligned party pursuant to Section 309(e) of the Act, 33 U.S.C. 1319(e). The Consent Decree resolves the claims alleged in the Complaint in return for payment by the City of a civil penalty of $600,000 to be paid to the United States, performance by the City of injunctive relief valued at $2.5 billion, and performance of a Supplemental Environmental Project valued at $1.6 million.

The Department of Justice will receive comments relating to the proposed Consent Decree for a period of 30 days from the date of this publication. Comments on the Consent Decree should be addressed to the Assistant Attorney General, Environment and Natural Resources Division, and either e-mailed to pubcomment-ees.enrd@usdoj.gov or mailed to P.O. Box 7611, U.S. Department of Justice, Washington, DC 20044-7611, and should refer to United States v. City of Kansas City, Missouri, Civil Action No. 4:10-cv-0497 (W.D. Mo.), D.J. Ref. No. 90-5-1-1-06438/1.

The proposed Consent Decree may be examined at the Office of the United States Attorney, Western District of Missouri, Charles Evans Whittaker Courthouse, 400 East Ninth Street, Kansas City, Missouri 64106, and at EPA, Region 7, 901 North 5th Street, Kansas City, Kansas 66101. During the public comment period, the proposed Consent Decree may also be examined on the following Department of Justice Web site: http://www.justice.gov/enrd/Consent_Decrees.html. A copy of the proposed Consent Decree may also be obtained by mail from the Consent Decree Library, P.O. Box 7611, U.S. Department of Justice, Washington, DC 20044-7611, or by faxing or e-mailing a request to Tonia Fleetwood (tonia.fleetwood@usdoj.gov), fax number (202) 514-0097, phone number (202) 514-1547. If requesting a copy by mail from the Consent Decree Library, please enclose a check in the amount of $25.50 ($0.25 per page reproduction cost) payable to the United States Treasury or, if requesting by e-mail or fax, forward the check in that amount to the Consent Decree Library at the address stated above. If requesting a copy exclusive of appendices, please enclose a check in the amount of $14.25 ($0.25 per page reproduction cost) payable to the United States Treasury.

Maureen Katz,
Assistant Section Chief, Environmental Enforcement Section, Environment and Natural Resources Division.

[FR Doc. 2010-12729 Filed 5-26-10; 8:45 am]

BILLING CODE 4410-15-P